FEDERAL EMERGENCY MANAGEMENT AGENCY

U.S. Fire Administrator's National Fire Safety Campaign Grant Program

AGENCY: Federal Emergency Management Agency (FEMA), U.S. Fire Administration (USFA).

ACTION: Notice of funds and grant availability.

SUMMARY: We (USFA) give notice of $250,000 of appropriated grant funds to assist eligible organizations with their current fire prevention/reduction educational initiatives for high risk groups. This is a one-time, non-appealable grant. All selections are final.

DATES: We will issue the Request for Application (RFA) packages on or about June 7, 2000. Complete application packages must be postmarked and received by FEMA on or before July 24, 2000.

ADDRESSES: Eligible applicants can download the RFA from the FEMA/USFA website (www.usfa.fema.gov), or they may contact the Information Point of Contact listed below who will mail an RFA to them.

INFORMATION POINT OF CONTACT: Denise A. Brown, Program Analyst, Office of the U.S. Fire Administrator, Federal Emergency Management Agency, 500 C Street, SW., room 806, Washington, DC 20472; (telephone) (202) 646-3731; facsimile (202) 646-4301; (email) denise.brown@fema.gov.

REQUEST FOR APPLICATION POINT OF CONTACT: Cindy Adams, Contract Specialist, Federal Emergency Management Agency, U.S. Fire Administration, 16825 South Seton Avenue, Emmitsburg, MD 21727; (telephone) (301) 447-1221; (facsimile) (301) 447-1092; or (email) cindy.adams@fema.gov.

SUPPLEMENTARY INFORMATION: Throughout this notice the term “we” refers to the USFA.

Under the Federal Fire Prevention and Control Act, 15 U.S.C. § 2218, we are issuing an RFA to implement a competitive $250,000 grant program that is limited to eligible grant applicants. (Please see Eligibility criteria below). We intend to award ten (10) grants of $25,000.00 each under this grant program. All grant awards will have a project period of one year, and will require a six (6) month report and a final report detailing the progress of the grant program, and how the grantees are spending the funds.

Description of Grant Program: Public fire safety education is an integral part of the USFA's mission. In order to meet that goal, the U.S. Fire Administrator will provide funding to grass roots groups, fire departments, and to other established organizations to assist them in their current fire prevention/reduction educational initiatives for high risk groups. Citizens who are at greatest risk of being injured or killed by fire include the elderly, children, African-Americans, Latinos, Native Americans, and rural and urban residents.

Grantees are to use grants awarded under this program to deliver educational services, materials, and information to strengthen fire and life safety awareness for high-risk audiences, and to enhance the continued partnerships between fire service organizations and other non-profit organizations within the community.

Eligibility: Applicants applying for grants must meet the following requirements:

(a) The applicant must be a community-based, grass roots organization or other established non-profit organization demonstrating that it works in partnership with a local fire department. The applicant can also be a fire department (but not Federal/military fire departments). The organization must currently work toward increasing the public's knowledge and awareness of the importance of fire safety and prevention in an innovative manner, implementing a unique delivery style. It is the hope of the Administrator that the grant recipients' programs can be replicated for use by other organizations that teach and reinforce fire safety education and initiatives, and can be “best practices” examples within USFA curriculum. We will limit the grants to U.S. organizations, and we intend that grantees use the funds only in this country and its protectorates. Examples of non-fire and fire organizations follow:

(1) Non-fire organizations. For example:

• Community-based organizations;

• Non-profit organizations;

• Civic organizations (i.e., civic clubs, youth or senior citizen organizations, fraternities/sororities, etc.);

• Schools (i.e., public or private schools—kindergarten through high school, colleges/universities).

(2) Fire Organizations. For example:

• Fire Departments (i.e., municipal, volunteer, private),

• Fire Professional Organizations (at the local level),

• Fire Historical or Educational Organizations.

(b) The applicant's public fire safety and prevention program must have been in place for at least one (1) year.

(c) The applicant must be located in the United States.

Restrictions: Awards made under this grant program are one-time, non-appealable grants. All selections are final.

• Grants awarded under this program will support existing programs only; grantees may not use the funds to create or establish a new program.

• OMB Circular A-21, Cost Principles for Educational Institutions; A-87, Cost Principles for State and Local Governments; or A-122, Cost Principles for Non-Profit Organizations will govern the allowability of costs associated with supporting the program identified in a grant awardee's project description.

• Grantees are not to use this grant to purchase or acquire: fire prevention equipment or apparatus; office furniture and equipment such as computers and telephones; contractors, subcontractors or instructors for the program.

• Nor may grantees use this grant to lease, rent, alter, or construct real property.

Supplemental Application Information: Eligible applicants will explain, in detail, how they will spend the funds under this grant. All applicants must submit the following supplemental information as part of their application package (Please note: We will not return application packages):

(a) A one (1) page (maximum) summary that describes how the applicant meets the eligibility requirements. Please address each of the three (3) eligibility criteria separately.

(b) A five (5) page (maximum) project narrative that explains, in detail, how the applicant intends to use the grant funding.

(1) This narrative must include, but need not be limited to:

• specific program goals;

• target audience(s) the program reaches or will reach;

• innovative methodology the program uses to reach the target audience(s);

• the program's current operating budget/funding level/source of funding;

• number of citizens that the program serves,

• partnerships with local fire departments and other organizations in carrying out the program, and

• how the applicant promotes the program. (Please include samples of any existing promotional materials—i.e., print, audio, video, and media coverage—for review).

(2) A description of program results is also critical to the narrative, addressing:

• achievement of program goals (provide statistics);

• reduction of fire loss of life or property (provide statistics);

• publicity received (copies of media coverage); and

• other measures of success (provide evidence of measured results).

(3) Finally, the narrative must include an analysis of the growth potential for the program, describing how the applicant will use grant funds to reach a larger target audience(s).

Evaluation: We intend to evaluate all applications received by the established application due date and award ten (10) $25,000.00 grants based upon the following criteria:

(1) Demonstrated relevance/need for the program;

(2) Applicant's past use of resources for the program, and proposed future use of resources;

(3) Measured results of program, and future goals;

(4) Demonstrated growth and replicability of the program.

Dated: June 1, 2000.
Carrye B. Brown,
U.S. Fire Administrator.

[FR Doc. 00-14305 Filed 6-6-00; 8:45 am]

BILLING CODE 6718-08-P